ENVIRONMENTAL PROTECTION AGENCY

[FRL-7905-4]

Notice of Tentative Approval and Solicitation of Request for a Public Hearing for Public Water System Supervision Program Revisions for the State of West Virginia

AGENCY: Environmental Protection Agency (EPA).

ACTION: Notice of tentative approval and solicitation of requests for a public hearing.

SUMMARY: Notice is hereby given in accordance with the provision of section 1413 of the Safe Drinking Water Act, as amended, and the requirements governing the National Primary Drinking Water Regulations Implementation, 40 CFR part 142, that the State of West Virginia is revising its approved Public Water System Supervision Program. West Virginia has adopted the Arsenic and Clarifications to Compliance and New Source Contaminants Monitoring Rule (the Arsenic Rule) that requires community and non-transient non-community water systems to comply with the revised arsenic maximum contaminant level of 0.010 mg/L. EPA has determined that these revisions, all effective April 29, 2004, are no less stringent than the corresponding Federal regulations. Therefore, EPA has decided to tentatively approve these program revisions. All interested parties are invited to submit written comments on this determination and may request a public hearing.

DATES: Comments or a request for a public hearing must be submitted by May 31, 2005. This determination shall become effective on May 31, 2005, if no timely and appropriate request for a hearing is received and the Regional Administrator does not elect to hold a hearing on his own motion, and if no comments are received which cause EPA to modify its tentative approval.

ADDRESSES: Comments or a request for a public hearing must be submitted to the U.S. Environmental Protection Agency Region III, 1650 Arch Street, Philadelphia, PA 19103-2029. Comments only, may also be submitted electronically to Patti Kay Wisniewski at wisniewski.patti-kay@epa.gov.

All documents relating to this determination are available for inspection between the hours of 8 a.m. and 4:30 p.m., Monday through Friday, at the following offices:

• Drinking Water Branch, Water Protection Division, U.S. Environmental Protection Agency Region III, 1650 Arch Street, Philadelphia, PA 19103-2029.

• Bureau for Public Health, Department of Health and Human Resources, Capital & Washington Streets, 1 Davis Square, Suite 200, Charleston, WV 25301

FOR FURTHER INFORMATION CONTACT: Patti Kay Wisniewski, Drinking Water Branch (3WP22) at the Philadelphia address given above; telephone (215) 814-5668 or fax (215) 814-2318.

SUPPLEMENTARY INFORMATION: All interested parties are invited to submit written comments on this determination and may request a public hearing. All comments will be considered, and, if necessary, EPA will issue a response. Frivolous or insubstantial requests for a hearing may be denied by the Regional Administrator. However, if a substantial request for a public hearing is made by May 31, 2005, a public hearing will be held. A request for public hearing shall include the following: (1) The name, address, and telephone number of the individual, organization, or other entity requesting a hearing; (2) a brief statement of the requesting person's interest in the Regional Administrator's determination and of information that the requesting person intends to submit at such a hearing; and (3) the signature of the individual making the request; or, if the request is made on behalf of an organization or other entity, the signature of a responsible official of the organization or other entity.

Dated: April 22, 2005.
Donald S. Welsh,
Regional Administrator, EPA Region III.

[FR Doc. 05-8595 Filed 4-28-05; 8:45 am]

BILLING CODE 6560-50-P